DEPARTMENT OF HOMELAND SECURITY

U.S. Customs and Border Protection

Accreditation of Markan Laboratories (Riverside, NJ) as a Commercial Laboratory

AGENCY: U.S. Customs and Border Protection, Department of Homeland Security.

ACTION: Notice of accreditation of Markan Laboratories (Riverside, NJ), as a commercial laboratory.

SUMMARY: Notice is hereby given, pursuant to CBP regulations, that Markan Laboratories (Riverside, NJ), has been accredited to test certain sugar products for customs purposes for the next three years as of June 27, 2024.

DATES: Markan Laboratories (Riverside, NJ) was accredited as a commercial laboratory as of June 27, 2024. The next triennial inspection date will be scheduled for June 2027.

FOR FURTHER INFORMATION CONTACT: Dr. Justin Shey, Laboratories and Scientific Services, U.S. Customs and Border Protection, 1331 Pennsylvania Avenue NW, Suite 1501A North, Washington, DC 20004, tel. 202-344-1060.

SUPPLEMENTARY INFORMATION: Notice is hereby given pursuant to 19 CFR 151.12, that Markan Laboratories, 257-259 St. Mihiel Drive, Riverside, NJ 08075, has been accredited to test certain sugar products for customs purposes, in accordance with the provisions of 19 CFR 151.12.

Markan Laboratories (Riverside, NJ) is accredited for the following laboratory analysis procedures and methods for sugar products set forth by the U.S. Customs and Border Protection Laboratory Methods (CBPL) and International Commission for Uniform Methods of Sugar Analysis (ICUMSA):

CBPL No. | ICUMSA: New method No. | ICUMSA: Old method No. | Title
17-01 | GS1-1 (2022) | GS1/2/3/9-1 | Polarimetric Sucrose Content of Raw Sugar by VIS-Polarimetry.
17-02 | GS2-1 (2022) | GS2/3-1 | Polarimetric Sucrose Content of White Sugar by VIS-Polarimetry.
17-07 | GS2-15 (2007) | GS2/1/3/9-15 | The Determination of Sugar Moisture by Loss on Drying.
17-11 | GS4-13 (2009) | GS4/3/8-13 | The Determination of Refractometric Dry Substance (RDS %) of Molasses.
17-20 | GS1-2 (2022) | GS1/2/3-2 | Polarimetric Sucrose Content of Raw Sugar by NIR-Polarimetry.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Patricia A. Coleman,
Acting Assistant Commissioner, Laboratories and Scientific Services.

[FR Doc. 2025-12863 Filed 7-9-25; 8:45 am]

BILLING CODE 9111-14-P